DEPARTMENT OF ENERGY

Federal Energy Regulatory Commission

Notice of Availability of the Draft Environmental Impact Statement for the Proposed Rover Pipeline, Panhandle Backhaul, and Trunkline Backhaul Projects

| Docket Number
Rover Pipeline, LLC | CP15-93-000
Panhandle Eastern Pipe Line Company, LP | CP15-94-000
Trunkline Gas Company, LLC | CP15-96-000

The staff of the Federal Energy Regulatory Commission (FERC or Commission) has prepared a draft environmental impact statement (EIS) for the Rover Pipeline, Panhandle Backhaul, and Trunkline Backhaul Projects (Projects), proposed by Rover Pipeline, LLC (Rover), Panhandle Eastern Pipe Line Company, LP (Panhandle), and Trunkline Gas Company, LLC (Trunkline), respectively, in the above-referenced dockets. Rover requests authorization to construct, operate, and maintain certain natural gas pipeline facilities to transport about 3.25 billion cubic feet per day (Bcf/d) of stranded natural gas from Marcellus and Utica production areas in West Virginia, Pennsylvania, and Ohio to markets in the United States and Canada. Panhandle requests authorization to modify existing facilities and install an interconnection with Rover in Defiance County, Ohio to accommodate 0.75 Bcf/d of east-to-west firm transportation service. Trunkline would modify existing facilities, including piping at the existing Panhandle-Trunkline Interconnect in Douglas County, Illinois to provide 0.75 Bcf/d of north-to-south firm transportation service.

The draft EIS assesses the potential environmental effects of the construction and operation of the Projects in accordance with the requirements of the National Environmental Policy Act (NEPA). The FERC staff concludes that approval of the Projects would have some adverse and significant environmental impacts; however, these impacts would be reduced to acceptable levels with the implementation of Rover's, Panhandle's, and Trunkline's proposed mitigation and the additional measures recommended by staff in the draft EIS.

The U.S. Environmental Protection Agency (EPA), the U.S. Army Corps of Engineers (COE), the U.S. Fish and Wildlife Service (FWS), the Ohio Environmental Protection Agency (OHEPA), and the West Virginia Department of Environmental Protection (WVDEP) participated as cooperating agencies in the preparation of the EIS. Cooperating agencies have jurisdiction by law or special expertise with respect to resources potentially affected by the proposals and participate in the NEPA analysis. Although the cooperating agencies provided input to the conclusions and recommendations presented in the draft EIS, the agencies will present their own conclusions and recommendations in their respective Records of Decision for the Projects.

The draft EIS addresses the potential environmental effects of the construction and operation of the following facilities:

• 510.7 miles of new 24- to 42-inch-diameter natural gas pipeline and appurtenant facilities that include 10 new compressor stations, 19 new meter stations, 5 new tie-ins, 78 mainline valves, and 11 pig launcher and receiver facilities.¹

¹ A pig is an internal tool that can be used to clean and dry a pipeline and/or to inspect it for damage or corrosion.

• modifications by Panhandle at four existing compressor stations, one interconnection, and three valve sites; and

• modifications by Trunkline at four existing compressor stations and one meter station.

The FERC staff mailed copies of the draft EIS to federal, state, and local government representatives and agencies; elected officials; environmental and public interest groups; Native American tribes; potentially affected landowners and other interested individuals and groups; newspapers and libraries in the project area; and parties to this proceeding. Paper copy versions of this EIS were mailed to those specifically requesting them; all others received a CD version. In addition, the draft EIS is available for public viewing on the FERC's Web site (www.ferc.gov) using the eLibrary link. A limited number of copies are available for distribution and public inspection at: Federal Energy Regulatory Commission, Public Reference Room, 888 First Street NE., Room 2A, Washington, DC 20426, (202) 502-8371.

Any person wishing to comment on the draft EIS may do so. To ensure consideration of your comments on the proposal in the final EIS, it is important that the Commission receive your comments on or before April 11, 2016.

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the applicable project docket number (CP15-93-000, CP15-94-000, or CP15-96-000) with your submission:

Kimberly D. Bose, Secretary, Federal Energy Regulatory Commission, 888 First Street NE., Room 1A, Washington, DC 20426.

(4) In lieu of sending written or electronic comments, the Commission invites you to attend one of the public comment meetings its staff will conduct in the Project area to receive comments on the draft EIS. The date, time, and location of the public comment meetings will be published in a separate Notice and will be mailed to all those receiving the draft EIS and posted on the FERC Web site (www.ferc.gov). The meetings will be recorded by a court reporter to ensure comments are accurately recorded. Transcripts will be placed into the formal record of the Commission proceeding and available for public review.

Any person seeking to become a party to the proceeding must file a motion to intervene pursuant to Rule 214 of the Commission's Rules of Practice and Procedures (18 CFR part 385.214).² Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

² See the previous discussion on the methods for filing comments.

Questions?

Additional information about the project is available from the Commission's Office of External Affairs, at (866) 208-FERC, or on the FERC Web site (www.ferc.gov) using the eLibrary link. Click on the eLibrary link, click on “General Search,” and enter the docket number excluding the last three digits in the Docket Number field (i.e., CP15-93, CP15-94, or CP15-96). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: February 19, 2016.
Nathaniel J. Davis, Sr.,
Deputy Secretary.

[FR Doc. 2016-04142 Filed 2-25-16; 8:45 am]

BILLING CODE 6717-01-P